DEPARTMENT OF ENERGY

Federal Energy Regulatory Commission

[Docket Nos. RP91-203-072 and RP92-132-060]

Tennessee Gas Pipeline Company; Notice of Tariff Filing

June 7, 2002.

Take notice that on May 31, 2002, Tennessee Gas Pipeline Company (Tennessee), tendered for filing as part of its FERC Gas Tariff, Fifth Revised Volume No 1, certain revised tariff sheets, with an effective date of July 1, 2002.

Tennessee states that pursuant to the May 15, 1995 comprehensive settlement in the referenced proceeding, which relates to Tennessee's recovery of the costs of remediating polychlorinated biphenyl (PCB) and other hazardous substance list contamination on its system (“Settlement”), Tennessee is seeking to extend the PCB Adjustment Period for twenty-four months as provided for in the Settlement. Tennessee further states that it is submitting revised tariff sheets to update its rate sheet footnote pertaining to the PCB Adjustment Period and to reflect the extension of the PCB Adjustment Period proposed in the filing.

Any person desiring to protest said filing should file a protest with the Federal Energy Regulatory Commission, 888 First Street, NE., Washington, DC 20426, in accordance with Section 385.211 of the Commission's Rules and Regulations. All such protests must be filed in accordance with Section 154.210 of the Commission's Regulations. Protest will be considered by the Commission in determining the appropriate action to be taken, but will not serve to make protestants parties to the proceedings. Copies of this filing are on file with the Commission and are available for public inspection. This filing may also be viewed on the web at http://www.ferc.gov. using the “RIMS” link, select “Docket#” and follow the instructions (call 202-208-2222 for assistance). Comments, protests and interventions may be filed electronically via the Internet in lieu of paper. See, 18 CFR 385.2001(a)(2)(1)(iii) and the instructions on the Commission's web site under the “e-Filing” link.

Linwood A. Watson, Jr.,
Deputy Secretary.

[FR Doc. 02-14935 Filed 6-12-02; 8:45 am]

BILLING CODE 6717-01-M